DEPARTMENT OF DEFENSE

Department of the Army

Privacy Act of 1974; System of Records

AGENCY: Department of the Army, DOD.

ACTION: Notice to amend systems of records.

SUMMARY: The Department of the Army is amending four systems of records notices in its existing inventory of records systems subject to the Privacy Act of 1974, as amended. The “Retention and disposal” category within these notices are being revised to reflect the National Archives and Records Administration approved retention and disposal schedule for the records being maintained.

DATES: This proposed action will be effective without further notice on October 11, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: September 4, 2001.
L.M. Bynum,
Alternate OSD Federal Register Liaison Officer, Department of Defense.

A0351 USAREUR

System name:

Individual Academic Record Files (February 7, 2001, 66 FR 9298).

Changes:

* * * * *

Retention and disposal:

Delete entry and replace with “Destroy after 40 years. Maintain in current file area until no longer needed for conducting business, then retire to records holding area, where they will be transferred to the National Personnel Records Center, 9700 Page Avenue, St. Louis, MO 63132-5200.”

* * * * *

A0351 USAREUR

System name:

Individual Academic Record Files.

System location:

Commander, Combined Arms Training Center, Unit 28038, APO AE 09112-0100.

Categories of individuals covered by the system:

Military or civilian personnel admitted as a student at a course of instruction conducted by the Combined Arms Training Center.

Categories of records in the system:

Student’s name, Social Security Number, race, unit of assignment, course quota status, roster number, applicable Army Classification Battery Scores, eligibility for course attendance, academic achievements, awards, and similar relevant data.

Authority for maintenance of the system:

10 U.S.C. 3013, Secretary of the Army and E.O. 9397 (SSN).

Purpose(s):

To determine eligibility for enrollment/attendance, monitor student progress, and record accomplishments for management studies and reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By student's Social Security Number, surname, course/class number.

Safeguards:

Records are maintained in locked rooms, accessible only to designated persons authorized to use in the performance of official duties.

Retention and disposal:

Destroy after 40 years. Maintain in current file area until no longer needed for conducting business, then retire to records holding area, where they will be transferred to the National Personnel Records Center, 9700 Page Avenue, St. Louis, MO 63132-5200.

System manager(s) and address:

Commander, U.S. Army Europe and Seventh Army, Unit 29351, APO AE 09014-0100.

Notification procedure:

Individuals seeking to determine whether information about themselves is contained in this system should address written inquiries to the Commander, Combined Arms Training Center, Unit 28038, APO AE 09112-0100.

Individuals should provide their Social Security Number, full name, course and class dates of attendance, and signature.

Record access procedures:

Individuals seeking access to information about themselves contained in this system should address written inquiries to the Commander, Combined Arms Training Center, Unit 28038, APO AE 09112-0100.

Individuals should provide their Social Security Number, full name, course and class dates of attendance, and signature.

Contesting record procedures:

The Army's rules for accessing records, and for contesting contents and appealing initial agency determinations are published in the Army Regulation 340-21; 32 CFR part 505; or may be obtained from the system manager.

Record source categories:

From the individual; his/her commander; instructors; Army records and reports.

Exemptions claimed for the system:

None.

A0360-5 SAPA

System name:

Biography Files (August 30, 2000, 65 FR 52727).

Changes:

* * * * *

Retention and disposal:

Delete entry and replace with ‘Destroy 2 years after retirement, transfer, separation, or death, of the person concerned, or on discontinuance, whichever is first.’

* * * * *

A0360-5 SAPA

System name:

Biography Files.

System location:

Military records are located at General Officer Management Office, Office to the Chief of Staff, Army, 200 Army Pentagon, Washington, DC 20310-0200.

Civilian records are located at U.S. Army, Senior Executive Service Office, 111 Army Pentagon, Washington, DC 20310-0111.

Categories of individuals covered by the system:

Senior Department of the Army military and civilian personnel.

Categories of records in the system:

Biographical material including name, position, rank, educational degrees/grade, summary of service, photographs, newspaper clippings, speeches, outstanding achievements may also be included and related documents.

Authority for maintenance of the system:

10 U.S.C. 3013, Secretary of the Army; Army Regulation 360-5, Public Information; Army Regulation 690-900, Chapter 920, Civilian Personnel-Senior Executive Service.

Purpose(s):

To respond to queries from the news media, and Army agencies/commands relating to individuals concerned.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Records may be released to the news media to use for informational purposes.

The DoD ‘Blanket Routine Uses’ set forth at the beginning of the Army's compilation of systems of records notices also apply to this system.

Policies and practices for storing, retrieving, accessing, retaining, and disposing of records in the system:

Storage:

Electronic media and paper records in file folders.

Retrievability:

By individual's surname.

Safeguards:

Records are accessed only by designated officials having need therefore in the performance of their assigned duties. Storage areas are locked during non-duty hours.

Retention and disposal:

Destroy 2 years after retirement, transfer, separation, or death, of the person concerned, or on discontinuance, whichever is first.

System manager(s) and address:

Chief, General Officer Management Office, Office of the Chief of Staff, Army, 200 Army Pentagon, Washington, DC 20310-0200 for military records.

Chief, Office of the Secretary of the Army, U.S. Army Senior Executive Service Office, 111 Army Pentagon, Room 2C600 Washington, DC 20310-0111 for civilian records.

Notification procedure:

Individuals seeking to determine whether information about themselves is contained in this system should address written inquiries to the Chief, General Officer Management Office, Office to the Chief of Staff, Army, 200 Army Pentagon, Washington, DC 20310-0200 for military records or to the Chief, U.S. Army, Senior Executive Service Office, 111 Army Pentagon, Washington, DC 20310-0111 for civilian records.

For verification purposes, individual should provide full name, current address and telephone number, and signature.

Record access procedures:

Individuals seeking access to information about themselves contained in the system should address written inquiries to the Chief, General Officer Management Office, Office to the Chief of Staff, Army, 200 Army Pentagon, Washington, DC 20310-0200 for military records or to the Chief, U.S. Army, Senior Executive Service Office, 111 Army Pentagon, Washington, DC 20310-0111 for civilian records.

For verification purposes, individual should provide full name, current address and telephone number, and signature.

Contesting record procedures:

The Army's rules for accessing records, and for contesting contents and appealing initial agency determinations are contained in Army Regulation 340-21; 32 CFR part 505; or may be obtained from the system manager.

Record source categories:

From the individual; clippings from published media; published biographical data from Army records and reports.

Exemptions claimed for the system:

None.

A0600O TAPC

System name:

Army Career and Alumni Program (ACAP XXI) (February 14, 2000, 65 FR 7365).

Changes:

* * * * *

Retention and disposal:

Delete entry and replace with ‘Records are deleted after 90 days inactivity for individual personnel records.’

* * * * *

A0600O TAPC

System name:

Army Career and Alumni Program (ACAP XXI).

System location:

Primary location: Headquarters, U.S. Army Personnel Command, ATTN: TAPC-PDT-O, 200 Stovall Street, Alexandria, VA 22332-0476. Secondary locations: Army Career and Alumni Program Centers. A complete list of ACAP centers may be obtained by writing to the system manager.

Categories of individuals covered by the system:

Department of Defense military personnel (Active/reserve duty) and their spouses; U.S. Coast Guard personnel and their spouses; Department of Defense civilian employees and their spouses; U.S. Army National Guard personnel and their spouses; DoD personnel who retired no earlier than ninety (90) days prior to the date they requested ACAP services; and widows and widowers of deceased active duty military personnel.

Categories of records in the system:

Files contain individual’s name, home address, Social Security Number, date of birth, job qualifications, DD Form 2648 (Pre-Separation Counseling Checklist), and similar or pre-separation/transition counseling related documents.

Authority for maintenance of the system:

5 U.S.C. 301, Departmental Regulations; 10 U.S.C., Chapter 58; DoD Directive 1332.35; and E.O. 9397 (SSN).

Purpose(s):

To provide transition planning/counseling for individuals so that they may re-enter the civilian job market.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The DoD ‘Blanket Routine Uses’ set forth at the beginning of the Army's compilation of systems of records notices also apply to this system.

Policies and practices for storing, retrieving, accessing, retaining, and disposing of records in the system:

Storage:

Information is stored electronically on computers and on paper in file folders.

Retrievability:

By name or Social Security Number.

Safeguards:

All records are maintained in secured areas, accessible only to designated personnel whose official duties require they have access. The personal computer system can only be accessed through a system of passwords known only to the individual and the system administrator/supervisor. Paper files are secured in locked file cabinets. The areas where the personal computer and paper files are located are secured after duty hours in locked buildings.

Retention and disposal:

Records are deleted after 90 days inactivity for individual personnel records

System manager(s) and address:

Commander, U.S. Army Personnel Command, ATTN: TAPC-PDT-O, 200 Stovall Street, Alexandria, VA 22332-0476.

Notification procedure:

Individuals seeking to determine whether information about themselves is contained in the system should address written inquiries to the Director of the ACAP Center where transition assistance was obtained or contact the system manager. Requesting individual must submit full name and Social Security Number.

Record access procedures:

Individuals seeking access to records about themselves contained in this system should address written inquiries to the Director of the ACAP Center where transition assistance was obtained or contact the system manager. Requesting individual must submit full name and Social Security Number.

Contesting record procedures:

The Army's rules for accessing records, and for contesting contents and appealing initial agency determinations are contained in Army Regulation 340-21; 32 CFR part 505; or may be obtained from the system manager.

Record source categories:

From the individual, Army records and reports, and the U.S. Coast Guard records.

Exemptions claimed for the system:

None.

A0614-100/200 USMA

System name:

Evaluation/Assignment of Academic Instructors (January 8, 2001, 66 FR 1321).

Changes:

* * * * *

Retention and disposal:

Delete entry and replace with USMA files are maintained for 25 years in current file area, and are then destroyed.

All other offices, such as administrative offices, maintain the records in current file area for 10 years after transfer or separation of instructor, and are then destroyed.

* * * * *

A0614-100/200 USMA

System name:

Evaluation/Assignment of Academic Instructors.

System location:

Associate Dean for Plans and Resources, Office of the Dean, U.S. Military Academy, Dean of Academic Board, West Point, NY 10996-5000.

Categories of individuals covered by the system:

Civilian and military personnel who apply and/or serve on the Staff and Faculty, U.S. Military Academy.

Categories of records in the system:

Individual’s application consisting of name, grade or position, Social Security Number, educational and professional qualifications such as the Graduate Record Examination (GRE) or Graduate Management Admission Test (GMAT); evaluations; Officer Record Briefs (military only); personnel actions; appointments; official photographs; curriculum vitae; letters of endorsement; award recommendations; assignment orders; application/acceptance for advanced civil schooling; correspondence between the U.S. Military Academy and the Total Army Personnel Command; and other relevant documents.

Authority for maintenance of the system:

10 U.S.C. 3013, Secretary of the Army; 10 U.S.C. 4334, Command and Supervision; 10 U.S.C. 4337, Civilian Faculty and E.O. 9397 (SSN).

Purpose(s):

Used by the U.S. Military Academy Dean of Academic Board and department heads to assess qualifications and suitability, and manage civilian and military personnel for assignment to the Staff and Faculty, U.S. Military Academy.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The DoD ‘Blanket Routine Uses’ set forth at the beginning of the Army's compilation of systems of records notices also apply to this system.

Policies and practices for storing, retrieving, accessing, retaining, and disposing of records in the system:

Storage:

Paper records and electronic storage medium.

Retrievability:

By individual's name and Social Security Number.

Safeguards:

Information is available only to designated people who have a need-to-know.

Retention and disposal:

USMA files are maintained for 25 years in current file area, and are then destroyed.

All other offices, such as administrative offices, maintain the records in current file area for 10 years after transfer or separation of instructor, and are then destroyed

System manager(s) and address:

Associate Dean for Plans and Resources, Office of the Dean, Dean of Academic Board, West Point, NY 10996-5000.

Notification procedure:

Individuals seeking to determine if information about themselves is contained in this record system should address written inquiries to the Associate Dean for Plans and Resources, Office of the Dean, U.S. Military Academy, Dean of Academic Board, West Point, NY 10996-5000.

Individual should provide the full name, Social Security Number, sufficient details to locate records, current mailing address, and signature.

Record access procedures:

Individuals seeking access to records about themselves contained in this record system should address written inquiries to the Associate Dean for Plans and Resources, Office of the Dean, U.S. Military Academy, Dean of Academic Board, West Point, NY 10996-5000.

Individual should provide the full name, Social Security Number, sufficient details to locate records, current mailing address, and signature.

Contesting record procedures:

The Army's rules for accessing records, and for contesting contents and appealing initial agency determinations are contained in Army Regulation 340-21; 32 CFR part 505; or may be obtained from the system manager.

Record source categories:

From the individual; official Army or other Service records; academic institutions; letters of endorsement from third parties; U.S. Army Military Personnel Center; similar relevant documents.

Exemptions claimed for the system:

None.

[FR Doc. 01-22705 Filed 9-10-01; 8:45 am]

BILLING CODE 5001-08-P